DEPARTMENT OF TRANSPORTATION

Federal Aviation Administration

14 CFR Part 39

[Docket No. FAA-2006-26324; Directorate Identifier 2006-NM-214-AD; Amendment 39-14993; AD 2007-06-12]

RIN 2120-AA64

Airworthiness Directives; Airbus Model A330 Airplanes

AGENCY: Federal Aviation Administration (FAA), Department of Transportation (DOT).

ACTION: Final rule.

SUMMARY: The FAA is superseding an existing airworthiness directive (AD), which applies to certain Airbus Model A330-300 airplanes. That AD currently requires reinforcement of the structure of the center fuselage by installing external stiffeners (butt straps) at frame (FR) 53.3 on the fuselage skin between left-hand (LH) and right-hand (RH) stringer (STR) 13, and related investigative and corrective actions. This new AD requires additional reinforcement of the structure of the center fuselage by installing external stiffeners (butt straps) at frame FR53.3 on the fuselage skin between LH and RH STR13, and related investigative and other specified actions. This AD also adds airplanes to the applicability. This AD results from cracking found at the circumferential joint of FR53.3. We are issuing this AD to prevent fatigue cracking of the fuselage, which could result in reduced structural integrity of the fuselage.

DATES: This AD becomes effective April 20, 2007.

The Director of the Federal Register approved the incorporation by reference of a certain publication listed in the AD as of April 20, 2007.

On October 19, 2005 (70 FR 57732, October 4, 2005), the Director of the Federal Register approved the incorporation by reference of Airbus Service Bulletin A330-53-3127, Revision 01, dated November 21, 2003.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-20-07, amendment 39-14300 (70 FR 57732, October 4, 2005). The existing AD applies to certain Airbus Model A330-300 series airplanes. That NPRM was published in the Federal Register on November 15, 2006 (71 FR 66472). That NPRM proposed to continue to require reinforcement of the structure of the center fuselage by installing external stiffeners (butt straps) at frame (FR) 53.3 on the fuselage skin between left-hand (LH) and right-hand (RH) stringer (STR) 13, and related investigative and corrective actions. That NPRM also proposed to require additional reinforcement of the structure of the center fuselage by installing external stiffeners (butt straps) at frame FR53.3 on the fuselage skin between LH and RH STR13, and related investigative and other specified actions. That NPRM also proposed to add airplanes to the applicability.

Comments

We provided the public the opportunity to participate in the development of this AD. We have considered the comments that have been received on the NPRM.

Request To Revise Paragraph (h)

Airbus requests that we revise the phrase “For all airplanes * * *” in paragraph (h) of the NPRM to duplicate paragraph 2 of European Aviation Safety Agency (EASA) airworthiness directive 2006-0266, dated August 30, 2006, as follows: “For all A330-200 and -300 series aircraft [as listed in the applicability of this directive] which have received embodiment of AIRBUS modification 41652S11819.”

We agree to clarify paragraph (h) of this AD. The term “for all airplanes” in paragraph (h) of the NPRM applies to the airplanes identified in paragraph (c) of the NPRM (the applicability of the NPRM). Even though paragraph (h) of the NPRM is essentially the same as paragraph 2 of EASA airworthiness directive 2006-0266, we have revised paragraph (h) of this AD as follows: “For Airbus Model A330-201, -202, -203, -223, -243, -301, -321, -322, -323, -341, -342, and -343 airplanes, on which Airbus Modification 41652S11819 has been incorporated in production or in accordance with paragraph (f) of this AD, except those airplanes on which Airbus Modification 49202 has been incorporated in production * * *.” This change has not expanded the scope of this AD.

Request To Include Note

Airbus requests that we revise the NPRM to include Note 2 of EASA airworthiness directive 2006-0266: “Notwithstanding the compliance times referenced above, EASA supports the Airbus recommendation to embody SB A330-53-3143 at latest within 8,300 FC or 29,200 FH, whichever occurs first, in order to reduce the extent of any required repairs.”

We disagree with including the note. We acknowledge that accomplishing the required actions sooner could reduce the extent of repairs needed in the future. However, it is not appropriate and, therefore, not the FAA's practice to state recommendations in an AD. We have not revised this AD in this regard.

Request To Revise Discussion Section

Airbus requests that we revise the Discussion section of the NPRM to state the unsafe condition was found during fatigue tests (EF2) of the fuselage.

We agree with Airbus's statement. However, that portion of the Discussion section is not retained in this final rule. We have not revised this AD in this regard.

Conclusion

We have carefully reviewed the available data, including the comments that have been received, and determined that air safety and the public interest require adopting the AD with the change described previously. We have determined that this change will neither increase the economic burden on any operator nor increase the scope of the AD.

Costs of Compliance

Currently, the action required by AD 2005-20-07 and retained in this AD affects 12 airplanes of U.S. registry. However, we have been advised that all affected U.S. operators have already accomplished that action. If an affected airplane is imported and placed on the U.S. Register in the future, the action required by AD 2005-20-07 takes about 315 work hours per airplane, at an average labor rate of $80 per work hour. Required parts cost about $8,920 per airplane. Based on these figures, the estimated cost of the currently required action is $34,120 per airplane.

The new action affects about 27 airplanes of U.S. registry. The new action takes about 316 work hours per airplane, at an average labor rate of $80 per work hour. Required parts cost about $9,160 per airplane. Based on these figures, the estimated cost of the new action specified in this AD for U.S. operators is $929,880, or $34,440 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14300 (70 FR 57732, October 4, 2005) and by adding the following new airworthiness directive (AD):

2007-06-12 Airbus: Amendment 39-14993. Docket No. FAA-2006-26324; Directorate Identifier 2006-NM-214-AD.

Effective Date

(a) This AD becomes effective April 20, 2007.

Affected ADs

(b) This AD supersedes AD 2005-20-07.

Applicability

(c) This AD applies to Airbus Model A330-201, -202, -203, -223, -243, -301, -321, -322, -323, -341, -342, and -343 airplanes, certificated in any category; except those on which Airbus Modification 49202 has been incorporated in production.

Unsafe Condition

(d) This AD results from cracking found at the circumferential joint of frame (FR) 53.3. We are issuing this AD to prevent fatigue cracking of the fuselage, which could result in reduced structural integrity of the fuselage.

Compliance

(e) You are responsible for having the actions required by this AD performed within the compliance times specified, unless the actions have already been done.

Requirements of AD 2005-20-07

Installation for Model A330-300 Series Airplanes

(f) For Airbus Model A330-301, -321, -322, -323, -341, -342, and -343 airplanes, except those on which Airbus Modification 41652S11819 has been incorporated in production: At the later of the times in paragraphs (f)(1) and (f)(2) of this AD, install the butt straps at FR53.3 on the fuselage skin between left-hand (LH) and right-hand (RH) stringer (STR) 13, and do all related investigative and corrective actions before further flight. Except as provided by paragraph (g) of this AD, do all actions in accordance with the Accomplishment Instructions of Airbus Service Bulletin A330-53-3127, Revision 01, dated November 21, 2003.

(1) Before the accumulation of 14,700 total flight cycles or 51,400 total flight hours, whichever occurs earlier.

(2) Within 6 months after October 19, 2005 (the effective date of AD 2005-20-07).

Contact the FAA/Direction Générale de l'Aviation Civile (DGAC)/European Aviation Safety Agency (EASA) for Certain Repair Instructions

(g) For Airbus Model A330-301, -321, -322, -323, -341, -342, and -343 airplanes, except those on which Airbus Modification 41652S11819 has been incorporated in production: If any crack is detected during the related investigative actions (rototest) required by paragraph (f) of this AD, before further flight, repair the crack according to a method approved by the Manager, International Branch, ANM-116, Transport Airplane Directorate, FAA; the DGAC (or its delegated agent); or the EASA (or its delegated agent).

New Requirements of This AD

Installation for Model A330-200 and -300 Series Airplanes

(h) For Airbus Model A330-201, -202, -203, -223, -243, -301, -321, -322, -323, -341, -342, and -343 airplanes, on which Airbus Modification 41652S11819 has been incorporated in production or in accordance with paragraph (f) of this AD, except those airplanes on which Airbus Modification 49202 has been incorporated in production: At the later of the times in paragraphs (h)(1) and (h)(2) of this AD, install the butt straps at FR53.3 on the fuselage skin between LH and RH STR13; and do all related investigative and other specified actions before further flight, as applicable. Do all actions in accordance with the Accomplishment Instructions of Airbus Service Bulletin A330-53-3143, Revision 01, including Appendix 01, dated June 29, 2006; except if any crack is detected during a related investigative action (rototest), before further flight, repair the crack using a method approved by the Manager, International Branch, ANM-116; or the EASA (or its delegated agent).

(1) Before the accumulation of 17,600 total flight cycles or 61,600 total flight hours, whichever occurs earlier.

(2) Within 6 months after the effective date of this AD.

Credit for Actions Done in Accordance With Previous Service Bulletin

(i) Actions done before the effective date of this AD in accordance with Airbus Service Bulletin A330-53-3143, including Appendix 01, dated December 24, 2004, are acceptable for compliance with the corresponding requirements of paragraph (h) of this AD.

Alternative Methods of Compliance (AMOCs)

(j)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) EASA airworthiness directive 2006-0266, dated August 30, 2006, also addresses the subject of this AD.

Material Incorporated by Reference

(l) You must use Airbus Service Bulletin A330-53-3127, Revision 01, dated November 21, 2003; and Airbus Service Bulletin A330-53-3143, Revision 01, including Appendix 01, dated June 29, 2006; as applicable, to perform the actions that are required by this AD, unless the AD specifies otherwise.

(1) The Director of the Federal Register approved the incorporation by reference of Airbus Service Bulletin A330-53-3143, Revision 01, including Appendix 01, dated June 29, 2006, in accordance with 5 U.S.C. 552(a) and 1 CFR part 51.

(2) On October 19, 2005 (70 FR 57732, October 4, 2005), the Director of the Federal Register approved the incorporation by reference of Airbus Service Bulletin A330-53-3127, Revision 01, dated November 21, 2003.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at the NARA, call (202) 741-6030, or go to: http://www.archives.gov/federal-register/cfr/ibr-locations.html.

Issued in Renton, Washington, on March 7, 2007.
Ali Bahrami,
Manager, Transport Airplane Directorate, Aircraft Certification Service.

[FR Doc. E7-4740 Filed 3-15-07; 8:45 am]

BILLING CODE 4910-13-P